DEPARTMENT OF HEALTH AND HUMAN SERVICES

Centers for Disease Control and Prevention

[Program Announcement 01021]

Strategies for Improving Health Risk Communication Related to Military Deployments Among Military Personnel, Veterans, Their Family Members, and Their Health Care Providers; Notice of Availability of Funds

A. Purpose

The Centers for Disease Control and Prevention (CDC) announces the availability of fiscal year (FY) 2001 funds for a grant program for developing, implementing, and evaluating strategies for improving health risk communication related to military deployments among military personnel, veterans, their family members, and their health care providers. CDC is committed to achieving the health promotion and disease prevention objectives of “Healthy People 2010,” a national activity to reduce morbidity and mortality and improve the quality of life. This announcement is related to the focus area of Environmental Health.

For a conference copy of the “Healthy People 2010,” visit the internet site: http://www.health.gov/healthypeople.

The purpose of this program is to enhance interagency efforts to protect the health of deployed military personnel, veterans, and their families through improved health risk communication efforts that are timely, understandable, and effective. This should be accomplished through the development, implementation, and evaluation of strategies for communicating health risk information related to military deployments. This may include, but is not limited to the following types of studies:

a. Assessment of optimal strategies, methods or tools for conveying health information to deployed military personnel, veterans, their families, and their health care providers;

b. Evaluation of the impact of various health risk communication strategies on attitudes regarding risk, knowledge of health issues and outcomes, health and illness behaviors, and the prevention of ill-defined, symptom-based conditions such as those seen among Gulf War veterans;

c. Evaluation of patient and health care provider acceptance and attitudes about various risk communication tools and assessment of how these tools impact upon patient-provider communication.

For additional information, see Addendum II of this announcement, Background Information.

B. Eligible Applicants

Applications may be submitted by public and private nonprofit and for-profit organizations and by governments and their agencies; that is, universities, colleges, research institutions, hospitals, other public and private nonprofit and for-profit organizations, State and local governments or their bona fide agents, federally recognized Indian tribal governments, Indian tribes, or Indian tribal organizations, and small, minority, or women-owned businesses.

Note: Public Law 104-65 states that an organization, described in section 501(c)(4) of the Internal Revenue Code of 1986, that engages in lobbying activities is not eligible to receive Federal funds constituting an award, grant, cooperative agreement, contract, loan, or any other form.

C. Availability of Funds

Approximately $800,000 is available in FY 2001 to fund up to three awards. It is expected that the average award will be $260,000, ranging from $200,000 to $400,000. It is expected the awards will begin on or about September 1, 2001, and will be made for a 12-month budget period within a project period of up to three years. Funding estimates may change.

Continuation awards within an approved project period will be made on the basis of satisfactory progress as evidenced by required reports and the availability of funds.

Use of Funds

The budget should include a request for travel funds for key staff to participate in at least 3 planning meetings in either Atlanta or Washington DC per year (or clearly specify that the organization will provide required travel funds from other sources).

D. Program Requirements

The following are requirements for this program:

1. Develop and pilot test the study protocol and data collection instruments.

2. Ensure that appropriate cognitive, behavioral, and human factors variables are included in the project's experimental design and analyses.

3. Provide time lines for completing all components of the study.

4. Assure and maintain the confidentiality of all study participants.

5. Conduct the analysis, interpretation, presentation, and reporting of the study findings.

6. Establish appropriate partnerships to ensure the successful completion of the study. This may include, but is not limited to, partnerships with state or local health departments, community-based or professional organizations, local veterans' or military service organizations, and other veterans and military groups.

E. Application Content

Use the information in the Program Requirements, Other Requirements, and Evaluation Criteria sections to develop the application content. Your application will be evaluated on the criteria listed, so it is important to follow them in laying out your program plan.

F. Submission and Deadline

Submit the original and five copies of PHS-398 (OMB No. 0925-0001. (Adhere to instructions in the ERRATA Instruction Sheet for PHS-398). Forms are available in the application kit. On or before May 2, 2001, submit the application to the Grants Management Specialist identified in the “Where to Obtain Additional Information” section of this announcement.

Deadline: Applications shall be considered as meeting the deadline if they are either: (a) received on or before the deadline date, or (b) sent on or before the deadline date and received in time for orderly processing. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria

Each application will be evaluated individually against the following criteria by an independent review group appointed by CDC.

1. Background and Need (10 Points)

The extent to which the applicant has provided adequate background information justifying the need for the research, and his or her ability to conduct this or similar research. This should include the following: (a) Description of the scientific basis for the research (including an understanding of the role of symptom-based conditions in military and civilian populations), identification of the knowledge gaps which the research is intended to fill, and the expected outcome of the research; (b) description of the problems, complexities, and partnerships that will be required to carry out the research; and (c) description of the applicant's current and previous experience conducting health risk communication research and/or research with military populations and their family members.

2. Goals and Objectives (20 Points)

a. The extent to which the applicant has included goals and objectives which are relevant to the purpose of the proposal and feasible to be accomplished during the project period, and the extent to which the goals and objectives are specific and measurable.

b. The extent to which the proposed goals and objectives are relevant for enhancing federal efforts to improve deployment-related health risk communication.

3. Proposed Plan (50 Points)

a. The extent to which the applicant provides a detailed description of proposed activities which are likely to achieve each objective and overall program goal. This should include a reasonable and complete time line for implementing all activities; designation of responsibility for each action undertaken; and a description of data management and quality assurance procedures, data analysis plans, and methods to evaluate and assess the cognitive, behavioral, and human factors aspects of the risk communication activities

b. The extent to which the applicant has adequately described the key communication elements that will form the basis of the research. This should include a description of targeted audience(s), plans for developing messages and selecting channels for message delivery, expected communication objectives, implementation and monitoring plans, and methods of evaluation.

c. The extent to which the applicant documents the establishment of internal and external partnerships, the adequacy of plans for maintaining these partnerships, the appropriateness of the described partners, and the degree to which these partnerships will ensure the successful and timely completion of the research. The applicant provides meaningful letters of support from identified partners.

d. The degree to which the applicant has met the CDC policy requirements regarding the inclusion of women, ethnic, and racial groups in the proposed research. This should include the proposed plan for inclusion of both sexes and racial and ethnic minority populations for appropriate representation, the proposed justification when representation is limited or absent, a statement as to whether the design of the study is adequate to measure differences when warranted, and a statement as to whether the plans for recruitment and outreach of study participants include the process of establishing partnerships with community(ies) and recognition of mutual benefits.

4. Management and Staffing Plan (20 Points)

The extent to which proposed staffing, organizational structure, staff experience and background, job descriptions and curricula vitae for both proposed and current staff indicate ability to carry out the purposes of the research.

5. Budget and Justification (Not Scored)

The extent to which the budget is reasonable, adequately justified, and consistent with the intended use of the grant funds. All budget categories should be itemized.

6. Human Subjects (Not Scored)

The extent to which the applicant adequately addresses the requirements of Title 45 CFR Part 46 for the protection of human subjects.

H. Other Requirements

Technical Reporting Requirements:

Provide CDC with original plus two copies of:

1. Semi-annual progress reports;

2. Financial status report, no more than 90 days after the end of the budget period; and

3. Final financial and performance reports, no more than 90 days after the end of the project period.

Send all reports to the Grants Management Specialist identified in the “Where to Obtain Additional Information” section of this announcement.

The following additional requirements are applicable to this program. For a complete description of each, see Addendum I in the application kit.

AR-1—Human Subjects Requirements

AR-2—Requirements for Inclusion of Women and Racial and Ethnic Minorities in Research

AR-7—Executive Order 12372 Review

AR-9—Paperwork Reduction Act Requirements

AR-10—Smoke-Free Workplace Requirements

AR-11—Healthy People 2010

AR-12—Lobbying Restrictions

AR-14—Accounting System Requirements

AR-15—Proof of Non-Profit Status

I. Authority and Catalog of Federal Domestic Assistance Number

This program is authorized under sections 301 and 317 of the Public Health Service Act (42 U.S.C. sections 241 and 247b, as amended). The Catalog of Federal Domestic Assistance number is 93.283.

J. Where To Obtain Additional Information

This and other CDC announcements may be downloaded through the CDC home page on the internet at: http://www.cdc.gov (click on funding). Please refer to Program Announcement Number 01021 when requesting information.

To receive additional written information and to request an application kit, call 1-888-GRANTS4 (1-888-472-6874). You will be asked to leave your name and address, and will be instructed to identify the announcement number of interest.

If you have questions after reviewing the contents of all the documents, business management technical information may be obtained from: Sharron Orum, Grants Management Specialist, Grants Management Branch, Procurement and Grants Office, Centers for Disease Control and Prevention, 2920 Brandywine Road, Room 3000, Atlanta, GA 30341-4146, Telephone number: 770-488-2716.

For program technical assistance, contact: Drue H. Barrett, Ph.D., Chief, Veterans' Health Activity Working Group, Office of the Director, Division of Environmental Hazards and Health Effects, National Center for Environmental Health, Centers for Disease Control and Prevention, 1600 Clifton Road, Mail Stop E-19, Atlanta, GA 30333, Telephone number: 404-639-4862, Email address: dhb1@cdc.gov

Dated: February 23, 2001.
John L. Williams,
Director, Procurement and Grants Office, Centers for Disease Control and Prevention (CDC).

[FR Doc. 01-4936 Filed 2-28-01; 8:45 am]

BILLING CODE 4163-18-P